SECURITIES AND EXCHANGE COMMISSION

[File No. 500-1]

Duoyuan Printing, Inc.; Order of Suspension: of Trading

July 26, 2013.

It appears to the Securities and Exchange Commission that there is a lack of current and accurate information concerning the securities of Duoyuan Printing, Inc., because Duoyuan Printing, Inc. has not filed any periodic reports for any reporting period subsequent to March 31, 2010.

The Commission is of the opinion that the public interest and the protection of the investors require a suspension of trading in securities of Duoyuan Printing, Inc.

Therefore, it is ordered, pursuant to Section 12(k) of the Securities Exchange Act of 1934, that trading in Duoyuan Printing, Inc. is suspended for the period from 9:30 a.m. EDT, July 26, 2013, through 11:59 p.m. EDT, on August 8, 2013.

By the Commission.
Elizabeth M. Murphy,
Secretary.

[FR Doc. 2013-18362 Filed 7-26-13; 11:15 am]

BILLING CODE 8011-01-P